Title 3—

The President

Proclamation 8324 of November 26, 2008

National Drunk and Drugged Driving Prevention Month, 2008

By the President of the United States of America

A Proclamation

During National Drunk and Drugged Driving Prevention Month, we underscore our commitment to raising awareness about the tragedies that often result from driving under the influence of drugs or alcohol.

Nearly 13,000 Americans died last year as a result of drunk driving. During the holidays, people are more likely to drive in an impaired state, and in order to better protect our citizens this holiday season, we must educate all Americans about the seriousness of this offense and its devastating consequences. Individuals across America can help prevent drunk and drugged driving by making responsible choices, identifying sober designated drivers, and educating young people about ways to avoid drunk and drugged driving. All Americans can work together to make our roads safer and help save lives by preventing others from driving under the influence of alcohol and drugs.

My Administration is committed to keeping our citizens safe from drunk and drugged drivers this holiday season. The National Highway Traffic Safety Administration (NHTSA) is raising public awareness through advertising, urging the increased use of ignition interlocks, and encouraging greater law enforcement presence. The NHTSA has extended their “Drunk Driving. Over the Limit. Under Arrest.” campaign through the holiday season, and we must continue to be vigilant in stopping impaired driving throughout the year. In addition, the Office of National Drug Control Policy is working hard to ensure that our law enforcement officers have the tools they need to detect when drivers are under the influence of drugs.

NOW, THEREFORE, I, GEORGE W. BUSH, President of the United States of America, by virtue of the authority vested in me by the Constitution and laws of the United States, do hereby proclaim December 2008 as National Drunk and Drugged Driving Prevention Month. I encourage all Americans to help keep our Nation's roads safe by making responsible choices and taking appropriate measures to prevent drunk and drugged driving.

IN WITNESS WHEREOF, I have hereunto set my hand this twenty-sixth day of November, in the year of our Lord two thousand eight, and of the Independence of the United States of America the two hundred and thirty-third.

[FR Doc. E8-28687

Filed 12-1-08; 8:45 am]

Billing code 3195-W9-P